DEPARTMENT OF THE INTERIOR

Fish and Wildlife Service

Aquatic Nuisance Species Task Force—Joint Meeting of the Western Regional Panel and the Mississippi River Basin Regional Panel

AGENCY: Fish and Wildlife Service, Interior.

ACTION: Notice of meeting.

SUMMARY: This notice announces a joint meeting of the Aquatic Nuisance Species (ANS) Task Force Western Regional Panel and Mississippi River Basin Regional Panel. The meeting is open to the public. The meeting topics are identified in the SUPPLEMENTARY INFORMATION section.

DATES: The Western Regional Panel and Mississippi River Basin Regional Panel will meet from 8 a.m. to 4:30 p.m. on Wednesday, September 7, 2005, 8 a.m. to 4:30 p.m. on Thursday, September 8, 2005, and 8:30 a.m. to noon on Friday, September 9, 2005.

ADDRESSES: The Western Regional Panel and Mississippi River Basin Regional Panel meeting will be held at the Hyatt Regency Wichita, 400 West Waterman, Wichita, KS 67202; (316) 293-1918. Minutes of the meeting will be maintained in the office of Division of Environmental Quality, Chief, Branch of Invasive Species, U.S. Fish and Wildlife Service, Suite 322, 4401 North Fairfax Drive, Arlington, Virginia 22203-1622, and will be made available for public inspection during regular business hours, Monday through Friday.

FOR FURTHER INFORMATION CONTACT: Bettina Proctor, Western Regional Panel Coordinator, 303-236-4515, bettina_proctor@fws.gov, or Jerry Rasmussen, Mississippi River Basin Panel Coordinator, 309-793-5811, ijrivers@aol.com.

SUPPLEMENTARY INFORMATION: Pursuant to section 10(a)(2) of the Federal Advisory Committee Act (5 U.S.C. App.), this notice announces a joint meeting of the ANS Task Force Western Regional Panel and Mississippi River Basin Regional Panel. The ANS Task Force was established by the Nonindigenous Aquatic Nuisance Prevention and Control Act of 1990. The Western Regional Panel was established by the ANS Task Force in 1997, and the Mississippi River Basin Panel was established by the ANS Task Force in 2003. Both Regional Panels are comprised of representatives from Federal, State, and local agencies, as well as from private environmental and commercial interests, and each performs the following activities:

a. Identifies priorities for activities in its respective region,

b. Develops and submits recommendations to the national ANS Task Force,

c. Coordinates ANS program activities in its respective region,

d. Advises public and private interests on control efforts, and

e. Submits an annual report to the ANS Task Force describing activities within its respective region related to ANS prevention, research, and control.

Topics to be addressed at this meeting include: Updates on the two Panels and discussions of opportunities for the two Panels to work together; invasive aquatic plants; invasive aquatic birds; invasive fish; updates on the ANS Task Force and the National Invasive Species Council; zebra mussels and the effect on diving ducks; white perch; marketing strategies; Canada/Mexico cooperation; pathway management; and Hazard Analysis and Critical Control Point (HACCP) planning.

Dated: August 9, 2005.
Frank Deluise,
Acting Co-Chair, Aquatic Nuisance Species Task Force, Assistant Director—Fisheries & Habitat Conservation.

[FR Doc. 05-17621 Filed 9-2-05; 8:45 am]

BILLING CODE 4310-55-P